FEDERAL ELECTION COMMISSION

Sunshine Act Notice

Previously Announced Date & Time: Thursday, May 20, 2004, 10 a.m. meeting open to the public. This meeting was canceled.

Date and Time: Tuesday, June 8, 2004, at 10 a.m.

Place: 999 E Street, NW., Washington, DC.

Status: This meeting will be closed to the public.

Items to be Discussed: Compliance matters pursuant to 2 U.S.C. 437g.

Audits conducted pursuant to 2 U.S.C. 437g, 438(b), and title 26, U.S.C.

Matters concerning participation in civil actions or proceedings or arbitration.

Internal personnel rules and procedures or matters affecting a particular employee.

Date and Time: Thursday, June 10, 2004, at 10 a.m.

Place: 999 E Street, NW., Washington, DC (ninth floor).

Status: This meeting will be open to the public.

Items to be Discussed: Correction and Approval of Minutes.

Advisory Opinion 2004-12: Democrats for the West.

Advisory Opinion 2004-14: United States Representative Tom Davis.

Routine Administrative Matters.

Person to Contact for Information: Mr. Robert Biersack, Acting Press Officer, telephone: (202) 694-1220.

Mary W. Dove,
Secretary of the Commission.

[FR Doc. 04-12673 Filed 6-1-04; 10:56 am]

BILLING CODE 6715-01-M